DEPARTMENT OF AGRICULTURE

Opportunity for Designation in the Topeka, Kansas; Minot, North Dakota; Cincinnati, Ohio; Pocatello, Idaho; Evansville, Indiana; Salt Lake City, Utah; West Sacramento, California; Richmond, Virginia; and Savage, Minnesota Areas; Request for Comments on the Official Agencies Servicing This Area

AGENCY: Agricultural Marketing Service, USDA.

ACTION: Notice.

SUMMARY: The designations of the following official agencies listed below will end on the prescribed dates:

Official agency | Headquarters location and telephone | Designation end
Kansas Grain Inspection Service, Inc | Topeka, KS—785-233-7063 | 6/30/2018
Minot Grain Inspection, Inc | Minot, ND—701-838-1734 | 6/30/2018
Tri-State Grain Inspection Service, Inc | Cincinnati, OH—513-251-6571 | 6/30/2018
Idaho Grain Inspection Service, Inc | Pocatello, ID—208-233-8303 | 9/30/2018
Ohio Valley Grain Inspection, Inc | Evansville, IN—812-423-9010 | 9/30/2018
Utah Department of Agriculture and Food | Salt Lake City, UT—801-392-2292 | 9/30/2018
California Agri Inspection Co., Ltd | West Sacramento, CA—916-374-9700 | 12/31/2018
Virginia Department of Agriculture and Consumer Services | Richmond, VA—757-494-2455 | 12/31/2018
State Grain Inspection, Inc | Savage, MN—952-808-8566 | 12/31/2018

We are asking persons or governmental agencies interested in providing official services in the areas presently served by these agencies to submit an application for designation. In addition, we are asking for comments on the quality of services provided by the following designated agencies: Kansas Grain Inspection Service, Inc. (Kansas); Minot Grain Inspection, Inc. (Minot); Tri-State Grain Inspection Service, Inc. (Tri-State); Idaho Grain Inspection Service, Inc. (Idaho); Ohio Valley Grain Inspection, Inc. (Ohio Valley); Utah Department of Agriculture and Food (Utah); California Agri Inspection Co., Ltd. (Cal-Agri); Virginia Department of Agriculture and Consumer Services (Virginia); and State Grain Inspection, Inc. (State Grain). The realignment of offices within the U.S. Department of Agriculture authorized by the Secretary's Memorandum dated November 14, 2017, eliminates the Grain Inspection, Packers and Stockyards Administration (GIPSA) as a standalone agency. The grain inspection activities formerly part of GIPSA are now organized under AMS.

DATES: Applications and comments must be received by June 25, 2018.

ADDRESSES: Submit applications and comments concerning this Notice using any of the following methods:

• Applying for Designation on the Internet: Use FGISonline (https://fgis.gipsa.usda.gov/default_home_FGIS.aspx) and then click on the Delegations/Designations and Export Registrations (DDR) link. You will need to obtain an FGISonline customer number and USDA eAuthentication username and password prior to applying.

• Submit Comments Using the Internet: Go to Regulations.gov (http://www.regulations.gov). Instructions for submitting and reading comments are detailed on the site.

• Mail, Courier or Hand Delivery: Jacob Thein, Compliance Officer, USDA, AMS, FGIS, QACD, 10383 North Ambassador Drive, Kansas City, MO 64153.

• Fax: Jacob Thein, 816-872-1257

• Email: FGISQACD@ams.usda.gov

Read Applications and Comments: All applications and comments will be available for public inspection at the office above during regular business hours (7 CFR 1.27(c)).

FOR FURTHER INFORMATION CONTACT: Jacob Thein, 816-866-2223, Jacob.D.Thein@ams.usda.gov or FGISQACD@ams.usda.gov

SUPPLEMENTARY INFORMATION: Section 7(f) of the United States Grain Standards Act (USGSA) authorizes the Secretary to designate a qualified applicant to provide official services in a specified area after determining that the applicant is better able than any other applicant to provide such official services (7 U.S.C. 79(f)). Under section 7(g) of the USGSA, designations of official agencies are effective for no longer than five years, unless terminated by the Secretary, and may be renewed according to the criteria and procedures prescribed in section 7(f) of the USGSA.

Areas Open for Designation

Kansas, Minot, and Tri-State: Areas of designation include Colorado, Kansas, and parts of Nebraska, Wyoming, North Dakota, Indiana, Kentucky, and Ohio. Please see Federal Register (80 FR 7564-7565) for designations of areas open for designation.

Idaho, Ohio Valley, and Utah: Areas of designation include Utah and parts of Idaho, Indiana, Kentucky, and Tennessee. Please see Federal Register (80 FR 37581) for designations of areas open for designation.

Cal-Agri and Virginia: Areas of designation include Virginia and parts of California. Please see Federal Register (80 FR 37580) for designations of areas open for designation.

State Grain: Areas of designation include parts of Minnesota. Please see Federal Register (82 FR 30818-30819) for designations of areas open for designation.

Opportunity for Designation

Interested persons or governmental agencies may apply for designation to provide official services in the geographic areas of the official agencies specified above under the provisions of section 7(f) of the USGSA and 7 CFR 800.196. Designation in the specified geographic areas for Kansas, Minot, and Tri-State is for the period beginning July 1, 2018, to June 30, 2023. Designation in the specified geographic areas for Idaho, Ohio Valley, and Utah is for the period beginning October 1, 2018, to September 30, 2023. Designation in the specified geographic areas for Cal-Agri, Virginia, and State Grain is for the period beginning January 1, 2019, to December 31, 2023. To apply for designation or to request more information on the geographic areas serviced by these official agencies, contact Jacob Thein at the address listed above.

Request for Comments

We are publishing this Notice to provide interested persons the opportunity to comment on the quality of services provided by the Kansas, Minot, Tri-State, Idaho, Ohio Valley, Utah, Cal-Agri, Virginia, and State Grain official agencies. In the designation process, we are particularly interested in receiving comments citing reasons and pertinent data supporting or objecting to the designation of the applicant(s). Submit all comments to Jacob Thein at the above address or at http://www.regulations.gov.

We consider applications, comments, and other available information when determining which applicants will be designated.

Authority: 7 U.S.C. 71-87k.

Dated: May 22, 2018.
Greg Ibach,
Under Secretary, Marketing and Regulatory Programs.

[FR Doc. 2018-11294 Filed 5-24-18; 8:45 am]

BILLING CODE 3410-02-P